DEPARTMENT OF TRANSPORTATION

Federal Aviation Administration

Fifth Meeting: RTCA Special Committee 225, Rechargeable Lithium Battery and Battery Systems—Small and Medium Size

AGENCY: Federal Aviation Administration (FAA), U.S. Department of Transportation (DOT).

ACTION: Notice of RTCA Special Committee 225, Rechargeable Lithium Battery and Battery Systems—Small and Medium Size.

SUMMARY: The FAA is issuing this notice to advise the public of a meeting of RTCA Special Committee 225, Rechargeable Lithium Battery and Battery Systems—Small and Medium Size for the fifth meeting.

DATES: The meeting will be held November 30-December 1, 2011, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Special Committee 225, Rechargeable Lithium Battery and Battery Systems—Small and Medium Size. The agenda will include the following:

November 30, 2011

• Introductions and Administrative Remarks.

• Review and approval of summary from the 4th plenary meeting.

• Review action items.

• Review SC-225 schedule for Plenary meetings, working group meetings, and document preparation.

• Working Group Meeting—Review draft document.

• Review new action items.

• Review agenda for Thursday.

December 1, 2011

• Review of meeting agenda, other actions.

• Verify dates of next plenary and upcoming meeting working group meetings.

• Establish Agenda for 6th plenary meeting.

• Working Group Meeting—Review draft document.

• Working Group report, review progress and actions.

• Review all action items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 2, 2011.
Robert L. Bostiga,
Manager, Business Operations Group, Federal Aviation Administration.

[FR Doc. 2011-29266 Filed 11-10-11; 8:45 am]

BILLING CODE 4910-13-P